POSTAL REGULATORY COMMISSION

[Docket No. N2022-2; Order No. 6251]

Service Standard Changes

AGENCY: Postal Regulatory Commission.

ACTION: Notice.

SUMMARY: The Commission is acknowledging a filing by the Postal Service of its intent to conduct a pre-filing conference regarding its proposed changes to the service standards for Critical Entry Time Changes (CET) for certain Periodicals. This document informs the public of this proceeding and the pre-filing conference and takes other administrative steps.

DATES: Pre-filing conference: August 25, 2022, 12:30 p.m. to 1:30 p.m., Eastern Daylight Time—Virtual Online.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: Pursuant to 39 CFR 3020.111(d), on August 12, 2022, the Postal Service filed a notice of its intent to conduct a pre-filing conference regarding its proposed changes to the Critical Entry Times (CETs) for certain Periodicals.¹ The Postal Service seeks to revise the CET for all Periodicals that are not entered on a direct Carrier Route pallet to 0800. Notice at 2. Current CETs for the Periodicals affected by the proposed changes are 0800, 1100, or 1400. Id. at 3.

¹ Notice of Pre-Filing Conference, August 12, 2022 (Notice).

Due to the COVID-19 pandemic, the conference will be held virtually on August 25, 2022, from 12:30 p.m. to 1:30 p.m. Eastern Daylight Time (EDT). Notice at 1, 3. At this conference, Postal Service representatives capable of discussing the Postal Service's proposal will be available to educate the public and to allow interested persons to provide feedback to the Postal Service. See id. The registration instructions, which are available at https://about.usps.com/what/strategic-plans/delivering-for-america/#conference, direct interested persons to a website to register to participate using Zoom, and participants have until August 22, 2022, at 11:59 p.m. EDT to register. Id. at 4.

The Commission establishes Docket No. N2022-2 to consider the Postal Service's proposed changes to the CETs for certain categories of Periodicals.

The Postal Service states that the proposed changes further the “fundamental goals of service excellence and financial sustainability” found in its “Delivering for America” plan.² Specifically, the Postal Service states that “[c]urrently there are multiple different CETs for Periodicals, based on how the mail is prepared, but this system has proven unworkable.” Notice at 3. The Postal Service avers that “[h]aving to accommodate multiple arrival times for Periodicals volume constrains the Postal Service's ability to efficiently allocate staff and utilize available processing equipment” and that it “results in inconsistent and unreliable service, as the later CETs makes it very challenging for the Postal Service to meet the current Periodicals service standards.” Id. The Postal Service states that the proposed changes will “significantly increase operational effectiveness, while improving service reliability for all Periodicals customers.” Id.

² See id. at 2; see also United States Postal Service, Delivering for America: Our Vision and Ten-Year Plan to Achieve Financial Sustainability and Service Excellence, March 23, 2021, at 53, available at https://about.usps.com/what/strategic-plans/delivering-for-america/assets/USPS_Delivering-For-America.pdf.

The Postal Service must file its formal request for an advisory opinion with the Commission at least 90 days before implementing any of the proposed changes. 39 CFR 3020.112.³ This formal request must certify that the Postal Service has made good faith efforts to address the concerns raised at the pre-filing conference and meet other content requirements. 39 CFR 3020.113. After the Postal Service files the formal request for an advisory opinion, the Commission will set forth a procedural schedule and provide additional information in a notice and order that will be published in the Federal Register. 39 CFR 3020.110. Before issuing its advisory opinion, the Commission must provide an opportunity for a formal, on-the-record hearing pursuant to 5 U.S.C. 556 and 557. 39 U.S.C. 3661(c). The procedural rules in 39 CFR part 3020 apply to Docket No. N2022-2.

³ The Commission may consider whether to extend the 90 days for a decision based on good cause.

Pursuant to 39 U.S.C. 3661(c) and 39 CFR 3020.111(d), the Commission appoints Katrina R. Martinez to represent the interests of the general public (Public Representative) in this proceeding. Pursuant to 39 CFR 3020.111(d), the Secretary shall arrange for publication of this Order in the Federal Register.

It is ordered:

1. The Commission establishes Docket No. N2022-2 to consider the Postal Service's proposed changes to the Critical Entry Times for all Periodicals that are not entered on a direct Carrier Route pallet.

2. The Postal Service shall conduct a virtual pre-filing conference regarding its proposal on August 25, 2022, from 12:30 p.m. to 1:30 p.m. EDT.

3. Pursuant to 39 U.S.C. 3661(c) and 39 CFR 3020.111(d), Katrina R. Martinez is appointed to serve as an officer of the Commission (Public Representative) to represent the interests of the general public in this proceeding.

4. Pursuant to 39 CFR 3020.111(d), the Secretary shall arrange for publication of this order in the Federal Register.

By the Commission.
Jennie L. Jbara,
Alternate Certifying Officer.

[FR Doc. 2022-17873 Filed 8-18-22; 8:45 am]

BILLING CODE 7710-FW-P